DEPARTMENT OF ENERGY

Federal Energy Regulatory Commission

Notice of Application for Amendment of License and Soliciting Comments, Motions To Intervene, and Protests

July 9, 2003.

Take notice that the following application has been filed with the Commission and is available for public inspection:

a. Application Type: Amendment of License to Reduce the Authorized Capacity, and Revise Project Boundary.

b. Project No.: 10395-025.

c. Date Filed: January 23, 2003.

d. Applicant: Electric Plant Board of the City of Augusta, KY.

e. Name of Project: Meldahl Project.

f. Location: The project is located at the U.S. Army Corps of Engineers' Captain Anthony Meldahl Locks and Dam on the Ohio River in Bracken County, Kentucky.

g. Filed Pursuant to: Federal Power Act, 16 U.S.C. 791a-825r.

h. Applicant Contact: Mr. James B. Price, Agent to the Electric Plant Board of the City of Augusta, KY, AJS Hydro Corp., PO Box 5550, Aiken, SC 29804, Tel: (865) 436-0402.

i. FERC Contact: Any questions on this notice should be addressed to Mr. Jake Tung at (202) 502-8757, or e-mail address: hong.tung@ferc.gov.

j. Deadline for filing comments and or motions: August 11, 2003.

k. Description of Amendment: The licensee proposes the following design changes: (1) Installing 105 small turbines and generators, instead of the licensed three large turbines and generators, resulting in a reduction in the authorized capacity from 105 MW to 68.7 MW, (2) placing seven transformers and switchgears, and (3) constructing a 2-mile-long transmission line, instead of the licensed 5.1-mile-long route. The change in project design is to install 105 smaller units that would be fitted in seven modules, each located in a gate bay of the existing dam. This installation eliminates construction of an intake and tailrace, in effect, avoiding dredging, excavation, and spoil disposal. The proposed transmission line alignment will be along an existing transmission line to the point of interconnection with an existing line of Kentucky Utilities. This proposed alignment would require the clearing of about 10 acres of land.

l. Locations of the Application: A copy of the application is available for inspection and reproduction at the Commission's Public Reference Room, located at 888 First Street, NE., Room 2A, Washington, DC 20426, or by calling (202) 502-8371. This filing may also be viewed on the Commission's Web site at http://www.ferc.gov using the “FERRIS” link. Enter the docket number excluding the last three digits in the docket number field to access the document. For assistance, call 1-866-208-3676 or e-mail FERCOnlineSupport@ferc.gov. For TTY, call (202) 502-8659. A copy is also available for inspection and reproduction at the address in item (h) above.

m. Individuals desiring to be included on the Commission's mailing list should so indicate by writing to the Secretary of the Commission.

n. Comments, Protests, or Motions to Intervene—Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

o. Filing and Service of Responsive Documents—Any filings must bear in all capital letters the title “COMMENTS”, “RECOMMENDATIONS FOR TERMS AND CONDITIONS”, “PROTEST”, OR “MOTION TO INTERVENE”, as applicable, and the Project Number of the particular application to which the filing refers. All documents (original and eight copies) should be filed with: Magalie R. Salas, Secretary, Federal Energy Regulatory Commission, 888 First Street, NE., Washington DC 20426. A copy of any motion to intervene must also be served upon each representative of the Applicant specified in the particular application. Comments, protests and interventions may be filed electronically via the Internet in lieu of paper. See 18 CFR 385.2001(a)(1)(iii) and the instructions on the Commission's Web site at http://www.ferc.gov under the “e-Filing” link.

p. Agency Comments: Federal, state, and local agencies are invited to file comments on the described application. A copy of the application may be obtained by agencies directly from the Applicant. If an agency does not file comments within the time specified for filing comments, it will be presumed to have no comments. One copy of an agency's comments must also be sent to the Applicant's representatives.

Magalie R. Salas,
Secretary.

[FR Doc. 03-17879 Filed 7-15-03; 8:45 am]

BILLING CODE 6717-01-P